FEDERAL RETIREMENT THRIFT INVESTMENT BOARD

Sunshine Act Notice

Correction

In notice document 02-2966 beginning on page 5602 in the issue of Wednesday, February 6, 2002, make the following correction:

On page 5602, in the first column, under the heading TIME AND DATE, “10 a.m. (EST),” should read, “10 a.m. (EST), February 19, 2002”.

[FR Doc. C2-2966 Filed 2-11-02; 8:45 am]

BILLING CODE 1505-01-D

DEPARTMENT OF HEALTH AND HUMAN SERVICES

Administration for Children and Families

State Median Income Estimates for Four-Person Families (FFY 2003); Notice of the Federal Fiscal Year (FFY) 2003 State Median Income Estimates for Use Under the Low Income Home Energy Assistance Program (LIHEAP) Administered by the Administration for Children, Families, Office of Community Services, Division of Energy Assistance

Correction

In notice document 02-2224 beginning on page 4454 in the issue of Wednesday, January 30, 2002, make the following correction:

On pages 4456 and 4457, the table headings are corrected to read as follows: “ESTIMATED STATE MEDIAN INCOME FOR 4-PERSON FAMILIES, BY STATE, FEDERAL FISCAL YEAR 2003¹”.

[FR Doc. C2-2224 Filed 2-11-02; 8:45 am]

BILLING CODE 1505-01-D

DEPARTMENT OF JUSTICE

Drug Enforcement Administration

Prices Power International Denial of Application

Correction

In notice document 02-1415 beginning on page 2910 in the issue of Tuesday, January 22, 2002, make the following correction:

On page 2912, in the third column, in the last sentence of the last paragraph, “February 21, 2001” should read, “February 21, 2002”.

[FR Doc. C2-1415 Filed 2-11-02; 8:45 am]

BILLING CODE 1505-01-D